SECURITIES AND EXCHANGE COMMISSION

[File No. 500-1]

In the Matter of NetCurrents Information Services, Inc.; Order of Suspension of Trading

July 15, 2005.

It appears to the Securities and Exchange Commission that there is a lack of current and accurate information concerning the securities of NetCurrents Information Services, Inc., because the company is delinquent in its periodic filing obligations under section 13(a) of the Securities Exchange Act of 1934 and because of possible manipulative conduct occurring in the market for the company's stock. NetCurrents Information Services, Inc. last filed an annual report on Form 10-KSB for the year ended December 31, 2000, and last filed a quarterly report on Form 10-QSB for the quarter ended September 30, 2001.

The Commission is of the opinion that the public interest and the protection of investors require a suspension of trading in the common stock (ticker symbol NCIS) and Series A 8.5% convertible preferred stock (ticker symbol NCISP) of the above-listed company.

Therefore, it is ordered, pursuant to section 12(k) of the Securities Exchange Act of 1934, that trading in the above-listed company is suspended for the period from 9:30 a.m. e.d.t. on July 15, 2005, through 11:59 p.m. e.d.t. on July 28, 2005.

By the Commission.
J. Lynn Taylor,
Assistant Secretary.

[FR Doc. 05-14305 Filed 7-15-05; 4:26 pm]

BILLING CODE 8010-01-M